DEPARTMENT OF TRANSPORTATION

Federal Aviation Administration

14 CFR Part 39

[Docket No. FAA-2016-9074; Product Identifier 2016-NM-097-AD]

RIN 2120-AA64

Airworthiness Directives; Airbus Airplanes

AGENCY: Federal Aviation Administration (FAA), DOT.

ACTION: Supplemental notice of proposed rulemaking (SNPRM); reopening of comment period.

SUMMARY: We are revising an earlier notice of proposed rulemaking (NPRM) for all Airbus Model A318-111 and -112 airplanes; Model A319-111, -112, -113, -114, and -115 airplanes; Model A320-211, -212, and -214 airplanes; and Model A321-111, -112, -211, -212, and -213 airplanes. This action revises the NPRM by expanding the list of affected engine fan cowl door (FCD) part numbers and adding Airbus Model A320-216 airplanes to the applicability. We are proposing this Airworthiness Directive (AD) to address the unsafe condition on these products. Since these actions impose an additional burden over those proposed in the NPRM, we are reopening the comment period to allow the public the chance to comment on these proposed changes.

DATES: The comment period for the NPRM published in the Federal Register on September 26, 2016 (81 FR 65980), is reopened.

We must receive comments on this SNPRM by November 13, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus, Airworthiness Office-EIAS, 1 Rond Point Maurice Bellonte, 31707 Blagnac Cedex, France; telephone +33 5 61 93 36 96; fax +33 5 61 93 44 51; email account.airworth-eas@airbus.com; Internet http://www.airbus.com. You may view this referenced service information at the FAA, Transport Standards Branch, 1601 Lind Avenue SW., Renton, WA. For information on the availability of this material at the FAA, call 425-227-1221.

Examining the AD Docket

You may examine the AD docket on the Internet at http://www.regulations.gov by searching for and locating Docket No. FAA-2016-9074; or in person at the Docket Management Facility between 9 a.m. and 5 p.m., Monday through Friday, except Federal holidays. The AD docket contains this proposed AD, the regulatory evaluation, any comments received, and other information. The street address for the Docket Office (telephone: 800-647-5527) is in the ADDRESSES section. Comments will be available in the AD docket shortly after receipt.

FOR FURTHER INFORMATION CONTACT: Sanjay Ralhan, Aerospace Engineer, International Section, Transport Standards Branch, FAA, 1601 Lind Avenue SW., Renton, WA 98057-3356; telephone 425-227-1405; fax 425-227-1149.

SUPPLEMENTARY INFORMATION:

Comments Invited

We invite you to send any written relevant data, views, or arguments about this proposed AD. Send your comments to an address listed under the ADDRESSES section. Include “Docket No. FAA-2016-9074; Product Identifier 2016-NM-097-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We issued an NPRM to amend 14 CFR part 39 by adding an AD that would apply to all Airbus Model A318-111 and -112 airplanes, Model A319-111, -112, -113, -114, and -115 airplanes, Model A320-211, -212, and -214 airplanes, and Model A321-111, -112, -211, -212, and -213 airplanes. The NPRM published in the Federal Register on September 26, 2016 (81 FR 65980) (“the NPRM”). The NPRM was prompted by reports of engine FCD losses on airplanes equipped with CFM56 engines due to operator failure to close the FCD during ground operations. The NPRM proposed to require modification and re-identification, or replacement, of certain FCDs. The NPRM also proposed to require installation of a placard.

Actions Since the NPRM Was Issued

Since we issued the NPRM, the European Aviation Safety Agency (EASA), which is the Technical Agent for the Member States of the European Union, issued AD 2016-0257, dated December 16, 2016 (referred to after this as the Mandatory Continuing Airworthiness Information, or “the MCAI”). The MCAI added part number 238-0301-509 to the list of affected FCDs. In addition, we have certified Airbus Model A320-216 airplanes, which are also affected by the identified unsafe condition. Therefore, we have added Airbus Model A320-216 airplanes to the applicability of this SNPRM.

EASA has issued the MCAI to correct an unsafe condition for all Airbus Model A318-111 and -112 airplanes; Model A319-111, -112, -113, -114, and -115 airplanes; Model A320-211, -212, -214, and -216 airplanes; and Model A321-111, -112, -211, -212, and -213 airplanes. The MCAI states:

Fan Cowl Door (FCD) losses were reported on aeroplanes equipped with CFM56 engines. Investigation results confirmed that in all cases the fan cowls were opened prior to the flight and were not correctly re-secured. During the pre-flight inspection, it was then not detected that the FCD[s] were not properly latched.

This condition, if not detected and corrected, could lead to in-flight loss of a FCD, possibly resulting in damage to the aeroplane and/or injury to persons on the ground.

Prompted by these events, new FCD front latch and keeper assembly were developed, having a specific key necessary to un-latch the FCD. This key cannot be removed unless the FCD front latch is safely closed. The key, after removal, must be stowed in the flight deck at a specific location, as instructed in the applicable Aircraft Maintenance Manual. Applicable Flight Crew Operating Manuals have been amended accordingly. After modification, the FCD is identified with a different Part Number (P/N). Airbus issued Service Bulletin (SB) A320-71-1068 to provide the modification instructions. Consequently, EASA issued AD 2016-0069 to require modification and re-identification of [affected] FCD[s] [or replacement of affected FCDs].

After that [EASA] AD was published, FCD P/N 238-0301-509 was identified as missing in the list of affected FCD P/N[s] provided in the [EASA] AD.

For the reasons described above, this [EASA] AD retains the requirement of EASA AD 2016-0069, which is superseded, and expands the list of affected FCD P/N[s].

You may examine the MCAI in the AD docket on the Internet at http://www.regulations.gov by searching for and locating Docket No. FAA-2016-9074.

Related Service Information Under 1 CFR Part 51

Airbus has issued Service Bulletin A320-71-1068, Revision 01, dated April 28, 2016. This service information describes procedures for modifying the left-hand and right-hand FCDs on engines 1 and 2; installing a placard; and re-identifying both the left-hand and right-hand FCDs with a new part number. This service information is reasonably available because the interested parties have access to it through their normal course of business or by the means identified in the ADDRESSES section.

Comments

We gave the public the opportunity to participate in developing this proposed AD. We considered the comments received.

Support for the NPRM

The Air Line Pilots Association, International stated that it supports the NPRM.

Requests To Revise the Costs of Compliance

American Airlines commented that the parts cost shown in the proposed AD (in the NPRM) is for only one engine instead of two.

We agree that the costs specified in the Costs of Compliance section of the proposed AD (in the NPRM) were only for one engine. We have revised the Costs of Compliance section in this SNPRM to show the cost for two engines.

American Airlines also requested that the cost of maintenance activities associated with the service information—e.g., re-rigging all cowl latches during embodiment, or other recording, tracking, and supply chain costs—be included in the Costs of Compliance section of the NPRM.

We do not agree with the commenter's request. We recognize that, in accomplishing the requirements of any AD, operators might incur additional maintenance or “incidental” costs in addition to the “direct” costs that are reflected in the cost analysis presented in the preamble of a proposed AD. However, the cost analysis in AD rulemaking actions typically does not include maintenance or incidental costs. We have not changed this SNPRM regarding this issue.

Request To Change the Compliance Time for the Modification

American Airlines requested that the compliance time for the modification be changed from 35 months to 48 months. American Airlines stated that more time is necessary due to the size of its fleet and the lead time to obtain parts.

We do not agree with the commenter's request to extend the compliance time. In developing an appropriate compliance time for this action, we considered the safety implications, parts availability, and normal maintenance schedules for the timely accomplishment of the modification. In consideration of these items, as well as the reports of FCD losses in service, we have determined that a 35-month compliance time will ensure an acceptable level of safety and allow the modifications to be done during scheduled maintenance intervals for most affected operators. In addition, we find that 35 months provides sufficient time to order parts and accomplish the required modification. However, under the provisions of paragraph (n)(1) of this proposed AD, we will consider requests for approval of an extension of the compliance time if sufficient data are submitted to substantiate that the change would provide an acceptable level of safety. We have not changed this proposed AD in this regard.

Request To Be Specific About Which FCDs Require Modification

Delta Air Lines (Delta) requested that we specify which FCDs need to be modified by listing the FCD serial numbers (S/N) in paragraphs (g)(1) and (g)(3) of the proposed AD (in the NPRM). Paragraphs (g)(1) and (g)(3) of the proposed AD (in the NPRM) would mandate reworking all FCDs on the affected aircraft. Delta stated that Goodrich Service Bulletin RA32071-163, Revision 3, dated October 11, 2016, specifies which FCDs require modification by identifying the applicable serial numbers. Delta stated that FCDs with serial numbers not listed in Goodrich Service Bulletin RA32071-163, Revision 3, dated October 11, 2016, do not require modification.

We disagree with the commenter's request. The State of Design Authority (EASA) and Airbus have determined the scope of discrepant FCD part numbers, which are identified in table 1 to paragraphs (g), (h), (i), and (k) of this AD as “old P/N.” The objective of the Goodrich Service Bulletin RA32071-163, Revision 3, dated October 11, 2016, is to provide instructions for modification. Delta has not provided any substantiation in support of its suggestion that the serial numbers identified in the proposed AD (in the NPRM) that are not listed in Goodrich Service Bulletin RA32071-163, Revision 3, dated October 11, 2016, are not affected by the identified unsafe condition. We have not changed this proposed AD in this regard.

Request To Remove Requirement To Re-Identify FCDs After Modification

Delta requested that paragraph (g)(3) of the proposed AD (in the NPRM) be removed. Delta indicated that the proposed AD would mandate that the modified FCD be re-identified as specified in table 1 to paragraphs (g), (h), (i), and (k) of this AD. Delta noted that this information and re-identification is already specified in Airbus Service Bulletin A320-71-1068, Revision 01, dated April 28, 2016; and Goodrich Service Bulletin RA32071-163, Revision 3, dated October 11, 2016. Delta indicated that table 1 to paragraphs (g), (h) (i) and (k) of the proposed AD is a duplication of the re-identification requirement in paragraph (g)(1) of the proposed AD, and lends itself to confusion and errors. Delta proposed to delete the requirement in paragraph (g)(3) of the proposed AD (in the NPRM). Alternatively, Delta recommended that paragraph (g)(3) of the proposed AD (in the NPRM) refer to step 3.I.H. in Goodrich Service Bulletin RA32071-163, Revision 3, dated October 11, 2016, for the correct re-identification requirement.

We do not agree to remove paragraph (g)(3) of the proposed AD or refer to Goodrich Service Bulletin RA32071-163, Revision 3, dated October 11, 2016. However, we do agree to clarify paragraph (g)(3) of this proposed AD. We have revised paragraph (g)(3) of this proposed AD to clarify that modified parts as specified in paragraph (g)(1) of this proposed AD are re-identified to the correct “new” part number identified in table 1 to paragraphs (g), (h), (i), and (k) of this proposed AD.

Requests To Remove Requirement for Placard

Delta requested that we remove the requirement for installing a placard on the flight deck stowage compartment area to note the location of the keys to the FCD latches. American Airlines and Delta both indicated that the placard and the location of the keys are not safety-related.

We disagree with the commenter's request. Installation of the placard is designed to ensure that the key is stowed in a particular location onboard the airplane and can be consistently retrieved from that location when needed. An operator may apply for approval of an alternative method of compliance (AMOC) using the procedures specified in paragraph (n)(1) of this AD, provided it can be shown that there is an alternative means to ensure the key is stowed onboard the airplane in a constantly retrievable and accessible location.

Request To Remove Reference to Certain Instructions for Installing Replacement FCDs

Delta requested that the alternative action in paragraphs (h) and (l)(2) of the proposed AD (in the NPRM) to install replacement FCDs using instructions “. . . approved by the Manager, International Section, Transport Standards Branch, FAA; or EASA; or Airbus's EASA Design Organization Approval (DOA),” be removed from the proposed AD. Delta noted that neither the service information nor the MCAI indicate any airworthiness concerns with the FCD installation. Delta stated that the on-wing work does not involve checking or re-installing the FCD; it involves only replacing the latch assembly. Delta requested that the proposed AD either specify the airworthiness concern regarding the procedure or provide FAA-approved instructions.

We disagree with the commenter's request. Installation of a new part using procedures that are not approved might result in an inadvertent addition of an unsafe condition. We have coordinated with Airbus and EASA and agreed that the installation must be done in accordance with the approved methods specified in paragraphs (h) and (l)(2) of this proposed AD.

Request To Allow Modification of Spare FCDs Using Goodrich Service Bulletin

American Airlines requested that the proposed AD (in the NPRM) be revised to allow modification of spare FCDs in accordance with the Accomplishment Instructions of Goodrich Service Bulletin RA32071-163, Revision 3, dated October 11, 2016, when an FCD is modified while off the airplane. American Airlines indicated that the Accomplishment Instructions of Airbus Service Bulletin A320-71-1068, Revision 01, dated April 28, 2016, contain procedures that are only applicable to FCDs that are installed on an airplane.

We acknowledge the commenter's request and have determined that clarification is necessary. Paragraph (h) of this proposed AD allows installation of replacement parts that are acceptable for compliance with paragraphs (g)(1) and (g)(3) of this proposed AD using methods other than Airbus Service Bulletin A320-71-1068, Revision 01, dated April 28, 2016, that are approved by the Manager, International Section, Transport Standards Branch, FAA; or EASA; or Airbus's EASA DOA. We have not changed this SNPRM in this regard.

Request To Allow Flight With Alternative Configuration

Delta noted that paragraph (k) of the proposed AD would prohibit installing any FCD that has an old part number after the AD effective date. Delta noted that it is possible to have an airplane on which only one FCD is removed for maintenance. Delta requested that we clarify whether it is acceptable to have an aircraft with a mix of old and new part numbers on the FCDs, prior to the compliance deadline.

We agree to provide clarification. We have revised the requirement in paragraph (k) of this proposed AD to match the corresponding requirement in the EASA AD. If an “old” part is installed prior to the effective date of this AD, then after modification of this part to a “new” part, installation of an “old” part is prohibited as specified in paragraph (k)(1) of this proposed AD. If a “new” part is installed, then as of the effective date of this AD, installation of an “old” part is prohibited as specified in paragraph (k)(2) of this proposed AD. These requirements apply to both engines.

Requests To Change Parts Installation Prohibition

American Airlines, Virgin America, and Delta requested that the parts installation prohibition in paragraph (k) of the proposed AD (in the NPRM) be changed to allow affected FCDs to be installed on airplanes up to 35 months after the effective date of the AD. The commenters noted that FCDs are routinely removed for maintenance, and stated that the proposed AD (in the NPRM) would require any removed FCD with an “old” part number to be modified immediately. The commenters indicated that this requirement was overly restrictive when compared to the MCAI requirements or the compliance time specified in paragraph (g) of this AD, which requires modifying FCDs within 35 months after the effective date of this AD.

We agree to provide clarification. As stated previously in the comment response to “Request To Allow Flight With Alternative Configuration,” we have revised the requirement in paragraph (k) of this proposed AD to match the corresponding requirement in the EASA AD.

Requests To Allow Use of Later Revisions of Service Information

American Airlines and Delta requested that the proposed AD (in the NPRM) be revised to allow the use of later revisions of service information. American Airlines indicated that the MCAI states: “The use of later approved revisions of this document is acceptable for compliance with the requirements of this AD.”

We do not concur with the commenters' request. We cannot refer to any document that does not yet exist. In general terms, we are required by the Office of the Federal Register's (OFR) regulations to either publish the service document contents as part of the actual AD language; or submit the service document to the OFR for approval as “referenced” material, in which case we may only refer to such material in the text of an AD. We may refer to the service document in the AD only if the OFR approved it for “incorporation by reference.” See 1 CFR part 51.

To allow operators to use later revisions of the referenced document (issued after publication of the AD), either we must revise the AD to reference specific later revisions, or operators must request approval to use later revisions as an AMOC with this AD under the provisions of paragraph (n)(1) of this AD.

Request To Use an Alternative Procedure for Modifying FCDs

Allegiant Air stated it has developed a procedure that requires a log entry each time an FCD is opened or closed. Allegiant Air noted that all of its FCD latches are painted bright orange in contrast to the blue color of the FCDs, which makes it easier for the crew to detect any unlatched doors and take corrective action. Allegiant Air suggested that these methods are sufficient to prevent any events caused by improperly closed and latched FCDs. Allegiant Air suggested that a modification to the FCDs is unnecessary if this procedure is followed.

We disagree with the commenter's request. EASA, as the State of Design Authority for Airbus products, has determined after conducting a risk analysis that an unsafe condition exists. EASA's analysis took into consideration the in-service events in the worldwide fleet that occurred despite some of the design or maintenance improvement methods that were implemented, including the ones noted by Allegiant Air. We agree with EASA's decision to mitigate the risk by mandating a new design solution, which makes it apparent to the flight crew on a pre-flight walk-around that an FCD is not latched. Although the commenter's specific proposal is not considered acceptable to address the identified unsafe condition, operators may request approval of an AMOC using the procedures specified in paragraph (n)(1) of this AD, provided they can show they have an alternative means to ensure the FCD is properly closed and locked. We have not changed this SNPRM in this regard.

FAA's Determination and Requirements of This SNPRM

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Certain changes described above expand the scope of the NPRM. As a result, we have determined that it is necessary to reopen the comment period to provide additional opportunity for the public to comment on this SNPRM.

Costs of Compliance

We estimate that this SNPRM affects 400 airplanes of U.S. registry.

We estimate the following costs to comply with this SNPRM:

Estimated Costs
Action | Labor cost | Parts cost | Cost per product | Cost on U.S. operators
Modification, placard installation, and re-identification (or replacement) of FCD | Up to 11 work-hours × $85 per hour = $935 | $9,730 | $10,665 (for two engines) | $4,266,000

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2016-9074; Product Identifier 2016-NM-097-AD.

(a) Comments Due Date

We must receive comments by November 13, 2017.

(b) Affected ADs

None.

(c) Applicability

This AD applies to the Airbus airplanes, certificated in any category, identified in paragraphs (c)(1) through (c)(4) of this AD, all manufacturer serial numbers.

(1) Airbus Model A318-111 and -112 airplanes.

(2) Airbus Model A319-111, -112, -113, -114, and -115 airplanes.

(3) Airbus Model A320-211, -212, -214 and -216 airplanes.

(4) Airbus Model A321-111, -112, -211, -212, and -213 airplanes.

(d) Subject

Air Transport Association (ATA) of America Code 71, Powerplant.

(e) Reason

This AD was prompted by reports of engine fan cowl door (FCD) losses on airplanes equipped with CFM56 engines due to operator failure to close the FCD during ground operations. We are issuing this AD to prevent in-flight loss of an engine FCD and possible consequent damage to the airplane.

(f) Compliance

Comply with this AD within the compliance times specified, unless already done.

(g) Modification of Affected FCDs

Within 35 months after the effective date of this AD, accomplish concurrently the actions in paragraphs (g)(1), (g)(2), and (g)(3) of this AD, in accordance with the Accomplishment Instructions of Airbus Service Bulletin A320-71-1068, Revision 01, dated April 28, 2016.

(1) Modify the left-hand and right-hand FCDs on engines 1 and 2 that have an old part number (“Old P/N”), as applicable, as specified in table 1 to paragraphs (g), (h), (i), and (k) of this AD.

(2) Install a placard on the box located at the bottom of the 120-volt unit (120 VU) panel, or at the bottom of the coat stowage, as applicable to airplane configuration.

(3) Re-identify the modified left-hand and right-hand FCDs with the new part number (“New P/N”), as applicable, as specified in table 1 to paragraphs (g), (h), (i), and (k) of this AD.

(h) Optional Replacement of Affected FCDs With New Door Design

Replacing the FCDs having a P/N listed as “Old P/N” in table 1 to paragraphs (g), (h), (i), and (k) of this AD with the FCDs having the corresponding P/Ns listed as “New P/N” in table 1 to paragraphs (g), (h), (i), and (k) of this AD is acceptable for compliance with the requirements of paragraphs (g)(1) and (g)(3) of this AD. The replacement must be done in accordance with instructions approved by the Manager, International Section, Transport Standards Branch, FAA; or the European Aviation Safety Agency (EASA); or Airbus's EASA Design Organization Approval (DOA).

(i) Compliance Information for Airplanes on Which Airbus Modification 157517 Is Embodied

Accomplishment of Airbus modification 157517 on an airplane in production is acceptable for compliance with the requirements of paragraphs (g)(1) and (g)(3) of this AD, provided that no FCD having a part number identified as “Old P/N” in table 1 to paragraphs (g), (h), (i), and (k) of this AD is installed on that airplane.

(j) Compliance Information for Airplanes on Which Airbus Modification 157519 or Modification 157521 Is Embodied

Accomplishment of Airbus modification 157519 or modification 157521 on an airplane in production is acceptable for compliance with the requirements of paragraph (g)(2) of this AD.

(k) Parts Installation Prohibition

(1) For any airplane with any FCD installed having a P/N identified as “Old P/N” in table 1 to paragraphs (g), (h), (i), and (k) of this AD as of the effective date of this AD: No person may install on an airplane a part number identified as “Old P/N” in table 1 to paragraphs (g), (h), (i), and (k) of this AD after accomplishing the requirements of paragraph (g) of this AD on that airplane.

(2) For any airplane with only FCDs installed having P/Ns that are identified as “New P/N” in table 1 to paragraphs (g), (h), (i), and (k) of this AD as of the effective date of this AD: No person may install on any airplane a part number identified as “Old P/N” in table 1 to paragraphs (g), (h), (i), and (k) of this AD as of the effective date of this AD.

(l) Installation of Approved Parts

Installation on an airplane of a right-hand or left-hand FCD having a part number approved after the effective date of this AD is acceptable for compliance with the requirements of paragraphs (g)(1) and (g)(3) of this AD for that airplane only, provided the conditions specified in paragraphs (l)(1) and (l)(2) of this AD are met.

(1) The part number must be approved by the Manager, International Section, Transport Standards Branch, FAA; or EASA; or Airbus's EASA DOA.

(2) The FCD installation must be accomplished in accordance with airplane modification instructions approved by the Manager, International Section, Transport Standards Branch, FAA; or EASA; or Airbus's EASA DOA.

(m) Credit for Previous Actions

This paragraph provides credit for actions required by paragraphs (g) and (h) of this AD, if those actions were performed before the effective date of this AD using Airbus Service Bulletin A320-71-1068, Revision 00, dated December 18, 2015.

(n) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (o)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or EASA; or Airbus's EASA DOA. If approved by the DOA, the approval must include the DOA-authorized signature.

(o) Related Information

(1) Refer to Mandatory Continuing Airworthiness Information (MCAI) EASA Airworthiness Directive 2016-0257 dated December 16, 2016, for related information. This MCAI may be found in the AD docket on the Internet at http://www.regulations.gov by searching for and locating Docket No. FAA-2016-9074.

(2) For more information about this AD, contact Sanjay Ralhan, Aerospace Engineer International Section, Transport Standards Branch, FAA, 1601 Lind Avenue SW., Renton, WA 98057-3356; telephone 425-227-1405; fax 425-227-1149.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this service information at the FAA, Transport Standards Branch, 1601 Lind Avenue SW., Renton, WA. For information on the availability of this material at the FAA, call 425-227-1221.

Issued in Renton, Washington, on September 19, 2017.
Dionne Palermo,
Acting Director, System Oversight Division, Aircraft Certification Service.

[FR Doc. 2017-20566 Filed 9-26-17; 8:45 am]

BILLING CODE 4910-13-P